DEPARTMENT OF THE TREASURY

Customs Service

Extension of General Program Test: Quota Preprocessing

AGENCY: Customs Service, Treasury.

ACTION: General notice.

SUMMARY: This notice announces that the testing period for the quota preprocessing program, which allows for the electronic processing of quota-class apparel merchandise, is being extended through the year 2002. The test is being extended at the ports where quota preprocessing is currently being tested, but not being expanded to other ports at this time because of programming changes that have yet to be made to the Automated Commercial System. When the programming changes are completed, Customs will expand the program to all ports. Public comments concerning any aspect of the test are solicited.

DATES: The test is extended from January 1, 2001, until December 31, 2002, with evaluations of the test occurring periodically. Applications to participate in the test and comments concerning the test will continue to be accepted throughout the testing period.

ADDRESSES: Written comments regarding this notice or any aspect of this test should be addressed to Lori Bowers, U.S. Customs Service, QWG Team Leader, 1000 Second Ave., Suite 2100, Seattle, WA 98104-1020 or may be sent via e-mail to Lori.Bowers@customs.treas.gov. Applications should be sent to the prototype coordinator at any of the four following port(s) where the applicant wishes to submit quota entries for preprocessing:

(1) Nancy Petagna, Port of Los Angeles, 300 S. Ferry St., Terminal Island, CA 90731;

(2) Tony Piscitelli, Los Angeles International Airport, 11099 S. La Cienaga Blvd., Los Angeles, CA 90045;

(3) Barry Goldberg, JFK Airport, JFK Building 77, Jamaica, NY 11430; and

(4) John Lava, Ports of New York/Newark, 6 World Trade Center, New York, NY 10048.

FOR FURTHER INFORMATION CONTACT: Lori Bowers (206) 553-0452 or Cynthia Porter (202) 927-5399.

SUPPLEMENTARY INFORMATION: On July 24, 1998, Customs published a general notice in the Federal Register (63 FR 39929) announcing the limited testing, pursuant to the provisions of § 101.9(a) of the Customs Regulations (19 CFR 101.9(a)), of a new operational procedure regarding the electronic processing of quota-class apparel merchandise. The new procedure was designed to allow certain quota entries (merchandise classifiable in chapters 61 and 62 of the Harmonized Tariff Schedule of the United States (HTSUS)) to be processed prior to carrier arrival, thus, reducing the quota processing time. The test was to be conducted at only four ports located in New York/Newark and Los Angeles and was to commence no earlier than August 24, 1998, and run for approximately six months. The notice informed the public of the new procedure and eligibility requirements for participation in the test, and solicited comments concerning any aspect of the test. The initial testing of the quota preprocessing program did not begin until September 15, 1998. The six-month time period of the original test expired on March 14, 1999.

On March 25, 1999, Customs published a general notice in the Federal Register (64 FR 14499) announcing that the testing period for the quota preprocessing program was being extended through the remainder of 1999. The testing was extended so that Customs could further evaluate the program's effectiveness and determine whether the program should be expanded to other ports. Again, the notice informed the public of the eligibility requirements for participation in the test, and solicited comments concerning any aspect of the test.

On January 6, 2000, Customs published another general notice in the Federal Register (65 FR 806) announcing that the testing period for the quota preprocessing program was being extended through the year 2000. The testing was extended at the ports where the test was already underway, but not expanded to other ports, so that programming changes could be made to the Automated Commercial System (ACS) which would have an impact on the expansion. At that time, the changes were scheduled to begin in March of 2000.

For budgetary reasons, the ACS programming changes could not be made as scheduled. Thus, the testing of the quota preprocessing program must continue until Customs can evaluate the electronic feasibility of expanding the program to all ports.

Accordingly, this document announces that Customs is extending the test of the quota preprocessing prototype at the ports where testing is already underway until the end of 2002. Those ports are: the port of Los Angeles (Port code: 2704); the port of New York/Newark (Port codes: 1001/4601); JFK Airport (Port code: 4701); and Los Angeles International Airport (Port code: 2720). Anyone interested in participating in the test should refer to the test notice published in the July 24, 1998 Federal Register for eligibility and application information. Any expansion of the parameters of the test will be the subject of a future Federal Register notice.

Dated: November 27, 2000.
Bonni G. Tischler,
Assistant Commissioner, Office of Field Operations.

[FR Doc. 00-30467 Filed 11-29-00; 8:45 am]

BILLING CODE 4820-02-P